RECOVERY ACCOUNTABILITY AND TRANSPARENCY BOARD

Agency Information Collection Activities: Renewal of Currently Approved Collection; Comment Request

ACTION: Notice of submission to Office of Management and Budget and 30-day public comment period.

SUMMARY: The Recovery Accountability and Transparency Board (Board) is giving public notice that it will submit a currently approved information collection to the Office of Management and Budget (OMB) for renewal. The public and affected federal agencies are invited to comment on the proposed approval renewal pursuant to the Paperwork Reduction Act of 1995 (PRA).

DATES: Written comments must be submitted to OMB at the address below on or before August 5, 2013 to be assured of consideration.

ADDRESSES: Send all comments to Sharon Mar, Desk Officer for the Recovery Accountability and Transparency Board, Office of Management and Budget, New Executive Office Building, Washington, DC 20503; fax 202-395-5167; or email to smar@omb.eop.gov.

SUPPLEMENTARY INFORMATION: Pursuant to the PRA, the Board invites the general public and affected federal agencies to comment on the proposed information collection approval renewal. The Board published a notice of proposed information collection approval renewal on March 29, 2013, see 78 FR 19333. No comments were received.

In response to this notice, comments and suggestions should address one or more of the following points: (a) Whether the proposed information collection is necessary for the proper performance of the functions of the Board; (b) the accuracy of the Board's estimate of the burden of the proposed information collection; (c) ways to enhance the quality, utility, and clarity of the information to be collected; (d) ways to minimize the burden of the collection of information on respondents, including the use of information technology; and (e) whether small businesses are affected by this collection.

In this notice, the Board is soliciting comments concerning the following information collection:

Title of Collection: Section 1512 Data Elements-Federal Financial Assistance

ICR Reference No.: 201004-0430-001

OMB Control No.: 0430-0004

ICR Status: The approval for this information collection is scheduled to expire on 7/31/2013.

Description: Section 1512 of the American Recovery and Reinvestment Act of 2009, Public Law 111-5, 123 Stat. 115 (2009) (Recovery Act), requires recipients of Recovery Act funds to report on the use of those funds. These reports are submitted to FederalReporting.gov, and certain information from these reports is then posted publically. This collection pertains only to recipients of federal financial assistance.

More specifically, prime recipients, sub-recipients, and vendors who receive federal financial assistance Recovery Act funds are required to submit Section 1512 data elements as set forth in the Recipient Reporting Data Dictionary (available electronically at https://www.federalreporting.gov/federalreporting/downloads.do). The following is a cumulative summary of the reporting guidance issued by the Office of Management and Budget (OMB) in its June 22, 2009, guidance entitled, “Implementing Guidance for the Reports on Use of Funds Pursuant to the American Recovery and Reinvestment Act of 2009” (M-09-21), and its December 18, 2009, guidance entitled, “Updated Guidance on the American Recovery and Reinvestment Act—Data Quality, Non-Reporting Recipients, and Reporting of Job Estimates” (M-10-08):

Prime Recipients: The prime recipient is ultimately responsible for the reporting of all data required by Section 1512 of the Recovery Act and the OMB Guidance, including the Federal Funding Accountability and Transparency Act (FFATA) data elements for the sub-recipients of the prime recipient required under Section1512(c)(4). In addition, the prime recipient must report three additional data elements associated with any vendors receiving funds from the prime recipient for any payments greater than $25,000. Specifically, the prime recipient must report the identity of the vendor by reporting the DUNS number, the amount of the payment, and a description of what was obtained in exchange for the payment. If the vendor does not have a DUNS number, then the name and zip code of the vendor's headquarters will be used for identification.

Sub-Recipients of the Prime Recipient: The sub-recipients of the prime recipient may be required by the prime recipient to report the FFATA data elements required under Section 1512(c)(4) for payments from the prime recipient to the sub-recipient. The reporting sub-recipients must also report one data element associated with any vendors receiving funds from that sub-recipient. Specifically, the sub-recipient must report, for any payments greater than $25,000, the identity of the vendor by reporting the DUNS number, if available, or otherwise the name and zip code of the vendor's headquarters.

Required Data: The specific data elements to be reported by prime recipients and sub-recipients are included in the Recipient Reporting Data Dictionary. Below are the basic reporting requirements to be reported on prime recipients, recipient vendors, sub-recipients, and sub-recipient vendors. Where noted, the information is not entered by the recipient but rather is derived from another source:

Prime Recipient

1. Funding Agency Code

2. Awarding Agency Code

3. Program Source (TAS)

4. Award Number

5. Order Number

6. Recipient DUNS Number

7. Parent DUNS (derived from CCR)

8. Recipient Type (derived from CCR)

9. CFDA Number

10. Government Contracting Office Code

11. Recipient Congressional District

12. Recipient Account Number

13. Final Report (not FFATA)

14. Award Type

15. Award Date

16. Award Description

17. Project Name or Project/Program Title

18. Quarterly Activities/Project

19. Project Status

20. Activity Code (NAICS or NTEE-NPC)

21. Number of Jobs

22. Descriptions of Jobs Created/Retained

23. Amount of Award

24. Total Federal Amount ARRA Funds Received/Invoiced

25. Total Federal Amount of ARRA Expenditure

26. Total Federal ARRA Infrastructure Expenditure

27. Infrastructure Purpose and Rationale

28. Infrastructure Contact Information

29. Recipient Primary Place of Performance

30. Recipient Indication of Reporting Applicability

31. Recipient Officer Names and Compensation (if applicable)

32. Total Number of Sub-Awards to Individuals

33. Total Amount of Sub-Awards to Individuals

34. Total Number of Payments to Vendors Less Than $25,000/Award

35. Total Amount of Payments to Vendors Less Than $25,000/Award

36. Total Number of Sub-Awards Less Than $25,000/Award

37. Total Amount of Sub-Awards Less Than $25,000/Award

Sub-Recipient

1. Sub-Recipient DUNS

2. Sub-Award Number

3. Sub-Recipient Name and Address (derived from CCR)

4. Sub-Recipient Congressional District

5. Amount of Sub-Award

6. Total Sub-Award Funds Disbursed

7. Sub-Award Date

8. Sub-Recipient Place of Performance

9. Sub-Recipient Indication of Reporting Applicability

10. Sub-Recipient Officer Names and Compensation (if applicable)

Vendor

1. Award Number—Prime Recipient Vendor

2. Sub-Award Number—Sub-Recipient Vendor

3. Vendor DUNS Number

4. Vendor HQ Zip Code + 4

5. Vendor Name

6. Product and Service Description

7. Payment Amount

Affected Public: Recipients, as defined in Section 1512(b)(1) of the Recovery Act, of Recovery Act funds (specifically, Federal financial assistance).

Total Estimated Number of Respondents: 24,356.

Frequency of Responses: Quarterly.

Total Estimated Annual Burden Hours: 160,263.

Dated: July 1, 2013.
Atticus J. Reaser,
General Counsel, Recovery Accountability and Transparency Board.

[FR Doc. 2013-16151 Filed 7-3-13; 8:45 am]

BILLING CODE 6821-15-P